DEPARTMENT OF COMMERCE

Foreign-Trade Zones Board

[B-57-2019]

Foreign-Trade Zone (FTZ) 145—Shreveport, Louisiana; Notification of Proposed Production Activity; Benteler Steel/Tube Manufacturing Corp.; (Seamless Quality Steel Tubes); Shreveport, Louisiana

Benteler Steel/Tube Manufacturing Corp. (Benteler) submitted a notification of proposed production activity to the FTZ Board for its facility in Shreveport, Louisiana. The notification conforming to the requirements of the regulations of the FTZ Board (15 CFR 400.22) was received on September 13, 2019.

The Benteler facility is located within FTZ 145. The facility is used for production of seamless quality steel tubes. Pursuant to 15 CFR 400.14(b), FTZ activity would be limited to the specific foreign-status materials and components and specific finished products described in the submitted notification (as described below) and subsequently authorized by the FTZ Board.

Production under FTZ procedures could exempt Benteler from customs duty payments on the foreign-status components used in export production. On its domestic sales, for the foreign-status materials/components noted below, Benteler would be able to choose the duty rates during customs entry procedures that apply to: Line pipe; drill pipe; casing, tubing and drill pipe; boiler, heat exchanger and line pipe; tubing, casing and heat exchangers; hollow carriers for perforating guns; couplings; and, coupling blanks (duty rate: Duty-free). Benteler would be able to avoid duty on foreign-status components which become scrap/waste. Customs duties also could possibly be deferred or reduced on foreign-status production equipment.

The components and materials sourced from abroad include: Non-alloy billets; alloy billets; hollow carriers for perforating guns; drill pipe; casing, tubing and drill pipe; and, boiler, heat exchanger and line pipe (duty rate: Duty-free). The request indicates that certain materials/components are subject to special duties under Section 232 of the Trade Expansion Act of 1962 (Section 232) or Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is November 4, 2019.

A copy of the notification will be available for public inspection in the “Reading Room” section of the Board's website, which is accessible via www.trade.gov/ftz.

For further information, contact Juanita Chen at juanita.chen@trade.gov or 202-482-1378.

Dated: September 17, 2019.
Andrew McGilvray,
Executive Secretary.

[FR Doc. 2019-20517 Filed 9-20-19; 8:45 am]

BILLING CODE 3510-DS-P